DEPARTMENT OF HOUSING AND URBAN DEVELOPMENT

[Docket No. FR-4820-N-43]

Notice of Proposed Information Collection: Comment Request; Financial Statement of Corporate Applicant for Cooperative Housing Mortgage

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments due date: December 23, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410 or Wayne_Eddins@hud.gov.

FOR FURTHER INFORMATION CONTACT: Michael McCullough, Director, Office of Multifamily Housing Development, Department of Housing and Urban Development, 451 7th Street, SW., Washington, DC 20410, telephone (202) 708-1142, (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Financial Statement of Corporate Applicant for Cooperative Housing Mortgage.

OMB Control Number, if applicable: 2502-0058.

Description of the need for the information and proposed use: Sections 213 and 221(d)(3) of the National Housing Act, as amended, authorizes the Secretary of the Department of Housing and Urban Development to insure mortgages covering property held by a non-profit cooperative ownership-housing corporation. The Act states: “any mortgages insured under this Section shall provide for complete authorization by periodic payments within such terms as the Secretary may prescribe, but not to exceed forty years from the beginning of amortization of the mortgage * * *” In order to determine the capacity of the borrower corporation and the individual members to meet the statutory requirement for repayment, the Department is required to examine the credit reports of individual members and their personal financial statements to determine the members' credit standing, ability to pay, and stability of employment. This analysis assists the Department in accurately assessing the credit risk regarding the loan amount and amortization period.

Agency form numbers, if applicable: HUD-93232-A.

Estimated of the total numbers of hours needed to prepare the information collection including number of respondents, frequency of response, and hours of response: An estimation of the total burden hours needed to prepare the information collection is 25. The number of respondents is 100 generating approximately 100 annual responses; the frequency of response is on occasion; and the estimated time needed to prepare the response is 15 minutes.

Status of the proposed information collection: Extension of a currently approved collection.

Authority: The Paperwork Reduction Act of 1995, 44 U.S.C. Chapter 35, as amended.

Dated: October 16, 2003.
Sean G. Cassidy,
General Deputy Assistant Secretary for Housing—Deputy Federal Housing Commissioner.

[FR Doc. 03-26903 Filed 10-23-03; 8:45 am]

BILLING CODE 4210-27-M